DEPARTMENT OF AGRICULTURE

Forest Service

Troy Mine, Incorporated, Troy Mine Revised Reclamation Plan, Kootenai National Forest, Lincoln County, MT

AGENCY: Forest Service, USDA.

ACTION: Notice of intent to prepare an environmental impact statement.

SUMMARY: The U.S. Department of Agriculture, Forest Service, Kootenai National Forest (KNF), in conjunction with Montana Department of Environmental Quality (DEQ), will prepare an environmental impact statement (EIS) to document the analysis and disclose the environmental impacts of the proposed action and alternatives to reclaim facilities, safely close the underground mine, and protect water quality at the Troy Mine, located in Lincoln County, Montana. The mine is located on public and private lands approximately 15 miles south of Troy, Montana. Genesis Incorporated (Genesis), a wholly owned subsidiary of Revett Silver Company, submitted the Troy Mine Revised Reclamation Plan (Revised Reclamation Plan or Proposed Action) on February 27, 2006, pursuant to U.S. Forest Service (USFS) locatable mineral regulations, 36 Code of Federal Regulations (CFR) 228, Subpart A, and the State of Montana Metal Mine Reclamation Act, 82-4-301 et seq., Montana Codes Annotated. On December 30, 2010 Genesis Incorporated changed their name to Troy Mine, Incorporated. A single EIS, evaluating all components of the proposed reclamation project will be prepared.

DATES: The public involvement process for the Revised Reclamation Plan began with a press release that was published in area newspapers and announced on local TV and radio stations on October 11, 2007. Advertisements were also published in four area newspapers October 21, 2007 through October 25, 2007. The comment period was extended from October 11, 2007 through December 28, 2007. There is no additional formal scoping period for this proposed action. The agencies completed an initial analysis in December 2010. Based on the analysis and potential water quality issues, the agencies decided to prepare a draft EIS. The draft EIS is expected to be available for review and public comment in May 2011. The comment period for the Draft EIS will be 45 days from the date the Environmental Protection Agency publishes the notice of availability in the Federal Register. The final EIS is expected to be released in December 2011.

FOR FURTHER INFORMATION CONTACT: Bobbie Lacklen, Project Coordinator, Kootenai National Forest, 31374 U.S. Hwy 2, Libby, MT 59923. Phone (406) 283-7681, or e-mail at blacklen@fs.fed.us, or consult http://www.fs.usda.gov/goto/kootenai/projects. Individuals who use telecommunication devices for the deaf (TDD) may call the Federal Information Relay Service (FIRS) at 1-800-877-8339 between 8 a.m. and 8 p.m., Eastern Time, Monday through Friday.

SUPPLEMENTARY INFORMATION: The Troy Mine is located about 15 miles south of Troy, Montana, in Lincoln County. The nearest towns to Troy are Libby, Montana, located 18 miles to the east and Bonners Ferry, Idaho, located 33 miles to the west. The Troy Mine is accessible from Montana Highway 56 and National Forest System Road 4626, both of which are paved. Approximately 57 percent of the project area is on private land, and the other 43 percent is on the KNF. The project area lies within the KNF immediately west and north of Bull Lake and encompasses a major portion of the Stanley Creek drainage and a portion of the Lake Creek drainage.

The American Smelting and Refining Company, (ASARCO) permitted the Troy Mine in 1978 with the USFS and State of Montana as an 8,500 ton-per-day underground copper/silver mine. The ore is mined using the “room-and-pillar method.” The mine permit area covers 2,782 acres of public and private land. The Troy Mine is comprised of 24 patented lode-mining claims and 188 unpatented lode-mining claims that are situated on National Forest System Lands managed by KNF. Patented lode-mining claims owned by Troy Mine, Inc. were acquired from ASARCO in September of 1999. The existing facilities at the Troy Mine consist of an underground mine, surface mill, office facilities; tailings and reclaim water pipelines; a power line; a tailings impoundment; and associated support facilities. Production stopped in 1993 and reinitiated in 2005 and is projected to continue for 3-5 years until the approved ore body is depleted. Troy Mine Inc. posted a 12.9 million dollar bond for the project that covers the existing reclamation plan. The final draft of the Revised Reclamation Plan is the subject of this environmental impact statement.

Purpose and Need for Action: The purpose of the proposed reclamation plan is to return lands disturbed by mining to a condition appropriate for subsequent use of the area. The need for the Revised Reclamation Plan stems from several objectives that need to be met after closure:

• The approved (1978) reclamation plan does not meet State or Federal requirements for mine adit water discharge;

• Protection of surface and groundwater quality;

• Protection of public health and safety;

• Minimization of environmental risk; and Restoration of productive land use.

Proposed Action: The Revised Reclamation Plan, which is the Proposed Action, was submitted to the agencies in March 2006. Troy Mine, Inc. proposes to reclaim lands disturbed by mining activities with the following reclamation elements:

• Removal of buildings, structures, and selected roads;

• Non-hydraulic plugging (backfilling) of the adits and recontouring the slope of the South Portal patio;

• Limited regrading of slopes and benches to fit with the surrounding natural environment;

• Revegetation of most of the disturbed areas;

• Mine water disposal to the tailings impoundment decant ponds by using the existing tailings pipelines and reclaim water line until the water meets water quality standards; and

• Monitoring of surface water bodies and tailings embankment stability.

Under the Proposed Action, the proposed reclamation would be accomplished in three phases: Pre-closure, closure, and post-closure. Pre-closure tasks include on-going monitoring, testing, and evaluations necessary to complete design of reclamation elements that include a short-term water management plan and engineering design of the adit. Closure tasks would take place two years after final cessation of mining and would include facility removal, regrading, revegetation, and maintenance of short-term components of the water management plan. Adit plugs would be installed during the closure period. Post-closure tasks would include long-term management of mine water flowing through pipelines, maintenance of pipelines and monitoring of water quality and surface/groundwater. Under the Proposed Action, the post-closure phase is estimated to last two to five years after mining ends, but post-closure water management facilities would be maintained until mine water meets water quality standards.

No Action Alternative: The No Action Alternative consists of the 1978 Reclamation Plan and includes the reclamation activities that have already been completed at the existing Troy Mine site. This reclamation plan was first analyzed and approved by the agencies in 1978.

Agency-Mitigated Alternative: The Agency-Mitigated Alternative is based upon the Proposed Action, but includes additional mitigation measures and monitoring requirements that address major issues identified during the earlier scoping and review process. The Agency-Mitigated Alternative includes the following major modifications to the Proposed Action:

• Hydraulic plugs would not be used at the Service and Conveyor adits. Concrete structures would be constructed to capture mine water and route it to the tailings impoundment for long-term passive treatment and disposal.

• A new water pipeline would be built to transport water from the mine to the decant ponds rather than using the 30+ year-old tailings lines.

• Additional monitoring of seeps and springs would be required to verify that State of Montana water quality standards were met.

Lead and Cooperating Agencies: The U.S. Department of Agriculture, Forest Service, Kootenai National Forest, and the Montana Department of Environmental Quality are joint lead agencies for preparing this environmental impact statement.

Issues: Issues were identified during the scoping and review from interdisciplinary specialists. The key issues identified primarily relate to adit closure, mine water distribution, mine water treatment and disposal, longevity and success of copper attenuation mechanisms, disposition of building materials, subsidence, and the source of reclamation materials.

Nature of Decision To Be Made: The nature of the decisions to be made is to select an action that meets the legal rights of the proponent, while protecting the environment in compliance with applicable laws, regulations, and policies. The Forest Supervisor will use the EIS process to develop the necessary information to make an informed decision as required by 36 CFR 228 subpart A. The Director of DEQ will use the EIS process in a similar fashion to make informed decisions on a number of State permits and permit modifications according to State laws and regulations. Based on the analysis and alternatives developed in the EIS, the following decisions are possible:

(1) Approval of the Troy Mine Revised Reclamation Plan as submitted;

(2) Approval of the Troy Mine Revised Reclamation Plan modified by the incorporation of agency mitigations and stipulations to meet the mandates of applicable laws, regulations, and policies;

(3) Approval of an Agency-Mitigated Alternative developed during the analysis process; or

(4) Approval of the No Action Alternative or rather denial of the Proposed Action such that reclamation would follow the existing approved plan and details contained in the approved reclamation bond calculations and specifications.

Permits or Licenses Required and Disposition: Various permits and licenses have been in effect during mine operations and may need to be modified. In some cases, new permits or licenses would be needed prior to implementation of the Revised Reclamation Plan. The major permits or licenses required or needing modification for this Proposed Action and the issuing agencies are:

• A Revised Reclamation Plan modifying the approved Troy Mine Plan of Operations and State Operating Permit #00093 approved by the KNF, and DEQ.

• A revised Storm Water Permit and a new Montana Pollution Discharge Elimination System (MPDES) Permit from DEQ.

• A 310 Permit from the Montana Department of Fish, Wildlife and Parks and Lincoln County Conservation District.

Draft Environmental Impact Statement: A draft EIS will be prepared for comment. The comment period on the draft EIS ends 45 days from the date the Environmental Protection Agency publishes the notice of availability in the Federal Register. The USFS believes, at this early stage, it is important to give reviewers notice of several court rulings related to public participation in the environmental review process. First, reviewers of a draft EIS must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this Proposed Action participate by the close of the 45-day comment period so that substantive comments and objections are made available to the USFS and DEQ at a time when the agencies can meaningfully consider and respond to them in the final EIS. To assist the USFS and DEQ in identifying and considering issues and concerns on the Proposed Action, comments on the draft EIS should be as specific as possible. It is also helpful if comments refer to specific pages or chapters of the draft EIS. Comments may also address the adequacy of the draft EIS or the merits of the alternatives formulated and discussed in the draft EIS. Reviewers may wish to refer to the Council on Environmental Quality Regulations for implementing the procedural provisions of the National Environmental Policy Act at 40 CFR 1503.3 in addressing these points.

Comments received, including the names and addresses of those who comment, will be considered part of the public record on this proposal, and will be available for public inspection.

Authority: 40 CFR 1501.7 and 1508.22; Forest Service Handbook 1909.15, Section 21.

Responsible Officials: Paul Bradford, Forest Supervisor, Kootenai National Forest, 31374 U.S. Hwy 2, Libby, MT 59923 and Richard Opper, Director, Montana Department of Environmental Quality, Director's Office, 1520 E 6th Ave., Helena, MT 59620-9601, will be jointly responsible for the EIS. These two officials will make decisions regarding this proposal after considering comments and responses pertaining to environmental consequences discussed in the final EIS and all applicable laws, regulations, and policies. The decisions of a selected alternative, permits, licenses, approvals, and rationale will be documented in a joint Record of Decisions.

Dated: April 7, 2011.
Maggie Pittman,
Acting Forest Supervisor, Kootenai National Forest.

[FR Doc. 2011-9086 Filed 4-13-11; 8:45 am]

BILLING CODE 3410-11-P